FEDERAL MINE SAFETY AND HEALTH REVIEW COMMISSION

Information Collection Renewal

AGENCY: Federal Mine Safety and Health Review Commission (FMSHRC).

ACTION: Notice and requests for comment.

SUMMARY: FMSHRC, as part of its continuing effort to reduce paperwork and respondent burden, invites the general public and other Federal agencies to take this opportunity to comment on the renewal of an information collections as required by the Paperwork Reduction Act of 1995 (PRA). In accordance with the requirements of the PRA, FMSHRC may not conduct or sponsor, and the respondent is not required to respond to, an information collection unless it displays a currently valid Office of Management and Budget (OMB) control number. FMSHRC is soliciting comment concerning the renewal of its information collection titled “Medical Exception Request to the COVID-19 Vaccination Requirement.”

DATES: You should submit written comments by March 28, 2022.

ADDRESSES: Commenters are encouraged to submit comments by email, if possible. You may submit comments by any of the following methods:

• Email: prainfo@fmshrc.gov. Include “3079-0001” in the subject line of the message.

• Fax: (202) 434-9916.

• Mail: Office of the Chief Operating Officer, 1331 Pennsylvania Avenue NW, Suite 520N, Washington, DC 20004-1710.

• Hand Delivery/Courier: same as mailing address.

FOR FURTHER INFORMATION CONTACT: Leslie Bayless, FMSHRC Chief Operating Officer, (202) 434-9900, 1331 Pennsylvania Avenue NW, Suite 520N, Washington, DC 20004-1710.

SUPPLEMENTARY INFORMATION: Under the PRA (44 U.S.C. 3501-3520), Federal agencies must obtain approval from the Office of Management and Budget (OMB) for each collection of information that they conduct or sponsor. “Collection of information” is defined in 44 U.S.C. 3502(3) and 5 CFR 1320.3(c) to include agency requests or requirements that members of the public submit reports, keep records, or provide information to a third party. Section 3506(c)(2)(A) of title 44 requires Federal agencies to provide a 60-day notice in the Federal Register concerning each proposed collection of information, including each proposed extension of an existing collection of information, before submitting the collection to OMB for approval. To comply with this requirement, FMSHRC is publishing notice of the renewal of the emergency approval granted to the information collection set forth in this document.

Title: Medical Exception Request to the COVID-19 Vaccination Requirement.

OMB Control No.: 3079-0001.

Abstract: The President, by Executive order 13991 (January 20, 2021) established the Safer Federal Workforce Task Force. The Task force was established to give the heads of Federal agencies ongoing guidance to keep their employees safe and their agencies operating during the COVID-19 pandemic. The Task force issued guidance, in accordance with the President's Executive Order 14043 (September 9, 2021), requiring Federal employees to be vaccinated against COVID-19 by November 22, 2021 absent an exception required by law. To determine whether employees who request a medical exception qualify for the exception sought, or, alternatively, must comply with the November 22 deadline, FMSHRC has developed the “Medical Exception Request to the COVID-19 Vaccination Requirement.”

This form was developed, consistent with guidance issued by the Task Force, to gather information from employees and applicants for employment who have requested medical exceptions to determine whether such employees qualify for legal exceptions to the vaccine requirement. The Request form also will be used to collect information from job applicants who may request a legal exception upon receiving an offer of employment from FMSHRC.

Type of Review: Extension, without change, of a currently approved collection.

Affected Public: Businesses or other for-profit; individuals.

Estimated Number of Respondents: 8 Job Applicants, 8 employees, and 36 medical professionals.

Estimated Burden per Respondent: 0.25 hours for applicants and employees; 0.5 hours for medical professionals.

Total Burden: 22.0 hours.

Comments submitted in response to this notice will be summarized and included in the request for OMB approval. All comments will become a matter of public record. Comments are invited on:

(a) Whether the collections of information are necessary for the proper performance of the functions of the agency, including whether the information has practical utility;

(b) The accuracy of the agency's estimates of the burden of the collections of information;

(c) Ways to enhance the quality, utility, and clarity of the information to be collected;

(d) Ways to minimize the burden of the collections on respondents, including through the use of automated collection techniques or other forms of information technology; and

(e) Estimates of capital or start-up costs and costs of operation, maintenance, and purchase of services to provide information.

Dated: January 20, 2022.
Sarah L. Stewart,
Deputy General Counsel, Federal Mine Safety and Health Review Commission.

[FR Doc. 2022-01441 Filed 1-25-22; 8:45 am]

BILLING CODE P